DEPARTMENT OF COMMERCE

Foreign-Trade Zones Board

[Docket 27-2000]

Foreign-Trade Zone 50, Long Beach, California Area, Application for Expansion

An application has been submitted to the Foreign-Trade Zones (FTZ) Board (the Board) by the Board of Harbor Commissioners of the City of Long Beach, grantee of FTZ 50, requesting authority to expand its zone in the Long Beach, California area, within the Los Angeles/Long Beach Customs port of entry. The application was submitted pursuant to the provisions of the Foreign-Trade Zones Act, as amended (19 U.S.C. 81a-81u), and the regulations of the Board (15 CFR Part 400). It was formally filed on June 5, 2000.

FTZ 50 was approved on September 14, 1979 (Board Order 147, 44 FR 55919, 9/28/79) and expanded 4 times (Board Orders 298, 341, 494 and 833). The zone project currently consists of the following sites in the Los Angeles/Long Beach Customs port of entry area: Site 1: Parcel 1-A (4 acres), 1500 West Dominguez Street, Long Beach; Parcel 1-B (96,354 sq. ft.), 909 East Colon Street, Wilmington; Parcel 1-C (2 acres), 1241 Watson Center Road, Carson; and Parcel 1-D (4 acres), 22941 South Wilmington Avenue, Carson; Site 2 (1,844 acres)—California Commerce Center, Ontario; Site 3 (92 acres)—parcels within the Inter-City Commuter Station Redevelopment area in Santa Ana and two warehouse facilities (17 acres, 324,000 sq. ft. total) at 3000/3100 Segerstrom Avenue, and 2900/2930 South Fairview Street, within the South Harbor Development area, Santa Ana; Site 4 (175 acres)—within the 2,300-acre San Bernardino International Airport and Trade Center complex (formerly Norton Air Force Base) in San Bernardino; and, Temporary Site 5 (11 acres, two parcels)—1101 W. McKinley Avenue (6 acres, Bldgs. 4-8) within the 487-acre Fairplex Center, Pomona; and, 10501-10509 E. Valley Blvd. (5 acres) at Pacific Place/San Gabriel Valley Business and Trade Center, El Monte, CA.

The applicant is now requesting authority to expand the general-purpose zone to include on a permanent basis the area within Temporary Site 5 (expires 9/1/01) and to include two new sites in the San Gabriel Valley area: Proposed Site 6: (50 acres)—former General Dynamics/Hughes site, north of Mission Boulevard between Humane Way and Dudley Street, Pomona; and, Proposed Site 7 (3 acres—2 sites)—San Gabriel sites, extending along San Marino Avenue and bounded on the north and south by Broadway and Clary Avenues (1 acre) and a site (2 acres) at Santa Anita and Junipero Serra Streets, San Gabriel. Proposed Site 6 is owned by the Pomona Redevelopment Agency and two private owners and Proposed Site 7 has multiple owners. The San Gabriel Valley Economic Partnership will serve as operator of the proposed sites. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at the address below. The closing period for their receipt is August 14, 2000. Rebuttal comments in response to material submitted during the foregoing period may be submitted during the subsequent 15-day period (to August 28, 2000).

A copy of the application and accompanying exhibits will be available for public inspection at each of the following locations:

U.S. Department of Commerce, Export Assistance Center, 350 S. Figueroa Street, Suite 509, Los Angeles, CA 90071.

Office of the Executive Secretary, Foreign-Trade Zones Board, Room 3716, U.S. Department of Commerce, 14th & Pennsylvania Avenue, NW, Washington, DC 20230

Dated: June 6, 2000.
Dennis Puccinelli,
Acting Executive Secretary.

[FR Doc. 00-14895 Filed 6-12-00; 8:45 am]

BILLING CODE 3510-DS-P